DEPARTMENT OF THE INTERIOR

Bureau of Indian Affairs

DEPARTMENT OF HEALTH AND HUMAN SERVICES

Indian Health Service

Request to Office of Management and Budget for Reinstatement of Agency Information Collection for Indian Self-Determination and Education Assistance Contracts

AGENCIES: Bureau of Indian Affairs, DOI and Indian Health Service, DHHS.

ACTION: 30-Day Notice of Submission to OMB.

SUMMARY: The Department of the Interior and the Department of Health and Human Services announce submission to the Office of Management and Budget (OMB) of a request for reinstatement of information collection, OMB #1076-0136, “Indian Self-Determination and Education Assistance Act Programs.” The information collection will be used to process contracts, grants or cooperative agreements for award by the Bureau of Indian Affairs and the Indian Health Service as authorized by the Indian Self-Determination and Education Assistance Act as amended and set forth in 25 CFR part 900. The Department of the Interior and the Department of Health and Human Services invite you to submit comments to the OMB on the information collection described below.

DATES: Interested persons are invited to submit comments on or before July 31, 2000.

ADDRESSES: If you wish to comment, you may submit your comments to Attn: Desk Officer for Department of the Interior, Office of Information and Regulatory Affairs, Office of Management and Budget, Docket Library, Room 10102, 725 17th Street NW, Washington, DC 20503. Please send copy of comments to James Thomas, Office of Tribal Services, Bureau of Indian Affairs, Department of the Interior, 1849 C Street NW, MS 4660 MIB, Washington, DC 20240.

FOR FURTHER INFORMATION CONTACT: James Thomas, Office of Tribal Services, Bureau of Indian Affairs, Department of the Interior, 1849 C Street NW, MS 4660 MIB, Washington, DC 20240, or (202) 208-5727.

SUPPLEMENTARY INFORMATION: Representatives of the Department of the Interior, the Department of Health and Human Services and the tribes developed a joint rule, 25 CFR part 900, to implement section 107 of the Indian Self-Determination and Education Assistance Act, as amended by, Public Law 103-413, the Indian Self-Determination Contract Reform Act of 1994. Section 107(a)(2)(A)(ii) of the Indian Self-Determination Contract Reform Act requires the joint rule to permit contracts and grants be awarded to Indian tribes without the unnecessary burden or confusion associated with two sets of rules and information collection requirements when there is a single program legislation involved. The burden hours for this collection have been reduced as a result of tribes contracting multiple programs under a single contract, as authorized under 25 CFR 900.8, tribes administering ‘mature’ contracts which require fewer reports and, tribes entering into Self-Governance ‘compacts,’ under which Self-Governance tribes may combine all programs under a single self-governance compact.

The information requirements for this joint rule represent significant differences from other agencies in several respects. Both the Bureau of Indian Affairs and the Indian Health Service let contracts for multiple programs whereas other agencies usually award single grants to tribes. Under the Indian Self-Determination and Education Assistance Act, as amended by the Indian Self-Determination Contract Reform Act of 1994, tribes are entitled to contract and may renew contracts annually where other agencies provide grants on a discretionary/competitive basis.

The proposal and other supporting documentation identified in this information collection is used by the Department of the Interior and the Department of Health and Human Services to determine applicant eligibility, evaluate applicant capabilities, protect the service population, safeguard Federal funds and other resources, and permit the Federal agencies to administer and evaluate contract programs. Tribal governments or tribal organizations provide the information by submitting Public Law 93-638 contract or grant proposals to the appropriate Federal agency. No third party notification or public disclosure burden is associated with this collection.

Request for Comments: The Department of the Interior and the Department of Health and Human Services request comments on this information collection particularly concerning: (1) The necessity of the information collection for the proper performance of the agencies' functions; (2) whether this information collection duplicates a collection elsewhere by the Federal Government; (3) whether the burden estimate is accurate or could be reduced using technology available to all respondents; (4) if the quality of the information requested ensures its usefulness to the agency(ies); (5) if the instructions are clear and easily understood, leading to the least burden on the respondents. A Federal agency may not conduct or sponsor, and a person is not required to respond to, a collection of information unless it displays a currently valid OMB control number.

Please submit any comments to the contact in the ADDRESSES section. Please submit a copy of comments on this information collection to the Bureau of Indian Affairs by telefax to (202) 208-5113. You may also hand deliver written comments or view comments at the address found in “FOR FURTHER INFORMATION CONTACT.” You may obtain a copy of this information collection document and the OMB submission at no charge by a written request to the same address, by telefaxing a request to the above number, or by calling (202) 208-5727. Please identify the information collection by, OMB #1076-0136. We make the comments and names and addresses of commentators available for public review during regular business hours. If you wish us to withhold your name and address, you must state this prominently at the beginning of your comments. We will honor your request to the extent allowable by law.

Burden Statement: Respondents may be required to respond from 1 to 12 times per year, depending upon the number of programs they contract from the Bureau of Indian Affairs and the Indian Health Service. In addition, each Subpart concerns different parts of the contracting process. For example, Subpart C relates to provisions of initial contract proposal contents. The burden associated with this would not be used when contracts are renewed. Subpart F describes minimum standards for the management systems used by Indian tribes or tribal organizations under these contracts. Subpart G addresses the negotiability of all reporting and data requirements in the contract.

Total annual burden: 238,992 hours.

Total number of respondents: 550.

Total number of responses: 5,507.

Dated: June 21, 2000.
Kevin Gover,
Assistant Secretary—Indian Affairs, Department of the Interior.
Dated: April 26, 2000.
Michael H. Trujillo,
Assistant Surgeon General, Director, Indian Health Service, Department of Health and Human Services.

[FR Doc. 00-16429 Filed 6-28-00; 8:45 am]

BILLING CODE 4310-02-P